DEPARTMENT OF TRANSPORTATION

Federal Aviation Administration

14 CFR Part 71

[Docket No.FAA-2004-17094; Airspace Docket No. 04-AGL-03]

Establishment of Class E Airspace; Northwood, ND; Correction

AGENCY: Federal Aviation Administration (FAA), DOT.

ACTION: Final rule; correction.

SUMMARY: This action corrects an error contained in a final rule that was published in the Federal Register on Tuesday, August 24, 2004 (69 FR 51948). The final rule established Class E airspace at Northwood, ND.

EFFECTIVE DATE: 0901 UTC, November 25, 2004.

FOR FURTHER INFORMATION CONTACT: J. Mark Reeves, Central Service Office, Airspace Branch, AGL-520, Federal Aviation Administration, 2300 East Devon Avenue, Des Plaines, IL 60018, telephone: (847) 294-7477.

SUPPLEMENTARY INFORMATION:

History

Federal Register Document 04-19370 published on Tuesday, August 24, 2004 (69 FR 51948), established Class E airspace at Northwood, ND. An incorrect coordinate was used in the legal description. This action corrects this error.

Accordingly, pursuant to the authority delegated to me, the error for the Class E airspace, Northwood, ND, as published in the Federal Register Tuesday, August 24, 2004, (69 FR 51948), (FR Doc. 04-19370), is corrected as follows:

PART 71—[AMENDED]

§ 71.1 [Corrected]

1. On page 51948, Column 3; in the legal description, change the coordinates to read; (Lat. 47°43′27″ N., long. 97°35′26″ W).

Issued in Des Plaines, Illinois on November 16, 2004.
Nancy B. Kort,
Area Director, Central Terminal Operations.

[FR Doc. 04-27091 Filed 12-9-04; 8:45 am]

BILLING CODE 4910-13-M